FEDERAL COMMUNICATIONS COMMISSION

47 CFR Part 73

[MB Docket No. 12-236; RM-11671; DA 13-986]

Radio Broadcasting Services; Roaring Springs, Texas

AGENCY: Federal Communications Commission.

ACTION: Final rule.

SUMMARY: The Audio Division, at the request of Jesus B. Salazar, allots FM Channel 227A and deletes FM Channel 249A at Roaring Springs, Texas, and allots FM Channel 249C3 and deletes FM Channel 276C3 at Roaring Springs. These allotment changes are part of a rule making and hybrid application proposal. Channel 227A can be allotted at Roaring Springs, consistent with the minimum distance separation requirements of the Commission's rules, at coordinates 33-59-36 NL and 100-52-10 WL, with a site restriction of 10.5 km (6.5 miles) north of the community Channel 249C3 can be allotted at Roaring Springs, consistent with the minimum distance separation requirements of the Commission's rules, at coordinates 33-57-55 NL and 100-47-36 WL, with a site restriction of 9.4 km (5.9 miles) northeast of the community See Supplementary Information infra.

DATES: Effective August 5, 2013.

FOR FURTHER INFORMATION CONTACT: Deborah Dupont, Media Bureau, (202) 418-2180.

SUPPLEMENTARY INFORMATION: This is a synopsis of the Commission's Report and Order, MB Docket No. 12-236, adopted May 2, 2013, and released May 3, 2013. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

The Bureau added Channel 249A at Roaring Springs, Texas to the FM Table of Allotments. See 69 FR 29241, published May 21, 2004. However, Channel 249A at Roaring Springs, Texas was inadvertently removed from the FM Table by Revision of Procedures Governing Amendments to FM Table of Allotments and Changes of Community of License in the Radio Broadcast Services, 71 FR 76208, published December 20, 2006.

List of Subjects in 47 CFR Part 73

Radio, Radio broadcasting.

Federal Communications Commission.
James D. Bradshaw,
Deputy Chief, Audio Division, Media Bureau.

For the reasons discussed in the preamble, the Federal Communications Commission amends 47 CFR Part 73 as follows:

PART 73—RADIO BROADCAST SERVICES

1. The authority citation for Part 73 continues to read as follows:

Authority: 47 U.S.C. 154, 303, 334, 336 and 339.

§ 73.202 [Amended]

2. Section 73.202(b), the Table of FM Allotments under Texas, is amended by removing Channel 276C3 at Roaring Springs and by adding Channel 227A and Channel 249C3 at Roaring Springs.

[FR Doc. 2013-16016 Filed 7-3-13; 8:45 am]

BILLING CODE 6712-01-P